DEPARTMENT OF AGRICULTURE

Forest Service

Forestry Research Advisory Council

AGENCY: Forest Service, USDA.

ACTION: Notice of meeting.

SUMMARY: The meeting room is changed for the Forestry Research Advisory Council. The meeting will take place in Berkeley, California, November 15-16, 2007. The purpose of the meeting is to discuss emerging issues in forestry research.

DATES: The meeting will be held November 15-16, 2007. On November 15 the meeting will be from 8 a.m. to 5 p.m, and on November 16 from 8-noon.

ADDRESSES: The meeting will be held at the Women's Faculty Club on the University of California Campus in Berkeley, California. Individuals who wish to speak at the meeting or to propose agenda items must send their names and proposals to Daina Apple, Designated Federal Officer, Forestry Research Advisory Council, USDA Forest Service Research and Development, 1400 Independence Ave., SW., Washington, DC 20250-1120. Individuals also may fax their names and proposed agenda items to (202) 205-1530.

FOR FURTHER INFORMATION CONTACT: Daina Apple, Forest Service Office of the Deputy Chief for Research and Development, (202) 205-1665.

SUPPLEMENTARY INFORMATION: The meeting is open to the public. Council discussion is limited to Forest Service, Cooperative State Research Education, and Extension Service staff and Council members. Persons wishing to bring forestry research matters to the attention of the Council may file written statements with the Council staff before or after the meeting.

Dated: October 18, 2007.
Jimmy L. Reaves,
Associate Deputy Chief, Research & Development.

[FR Doc. E7-20867 Filed 10-23-07; 8:45 am]

BILLING CODE 3410-11-P